DEPARTMENT OF THE INTERIOR

Bureau of Land Management

[COC-23653]

Public Land Order No. 7530; Extension of Public Land Order No. 6311; Colorado

AGENCY: Bureau of Land Management, Interior.

ACTION: Public Land Order.

SUMMARY: This order extends Public Land Order No. 6311 for an additional 20-year period. This extension is necessary to continue the protection of the Forest Service's Fravert Administrative Site.

EFFECTIVE DATE: August 10, 2002.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by Section 204 of the Federal Land Policy and Management Act of 1976, 43 U.S.C. 1714 (1994), it is ordered as follows:

1. Public Land Order No. 6311 (47 FR 34539, August 10, 1982), which withdrew public land to protect the Fravert Administrative Site, is hereby extended for an additional 20-year period on the following described land, which was formerly described by metes and bounds:

Sixth Principal Meridian

T. 6 S., R. 93 W., sec. 8, lot 1.

The area described contains 4.84 acres in Garfield County.

2. Public Land Order No. 6311 will expire August 9, 2022, unless, as a result of a review conducted prior to the expiration date pursuant to Section 204(f) of the Federal Land Policy and Management Act of 1976, 43 U.S.C. 1714(f) (1994), the Secretary determines that the withdrawal shall be extended.

Dated: July 18, 2002.
Rebecca W. Watson,
Assistant Secretary—Land and Minerals Management.

[FR Doc. 02-19665 Filed 8-2-02; 8:45 am]

BILLING CODE 3410-11-P